DEPARTMENT OF COMMERCE

National Oceanic and Atmospheric Administration

RIN 0648-XA88

Marine Mammals; File No.1034-1685

AGENCY: National Marine Fisheries Service (NMFS), National Oceanic and Atmospheric Administration (NOAA), Commerce.

ACTION: Notice; receipt of application for amendment.

SUMMARY: Notice is hereby given that Dr. Markus Horning, Marine Mammal Institute, Oregon State University, 2030 SE Marine Science Drive, Newport, OR 97365, has requested an amendment to scientific research Permit No. 1034-1685-01 for research on marine mammals.

DATES: Written, telefaxed, or e-mail comments must be received on or before July 20, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1034-1685-02.

FOR FURTHER INFORMATION CONTACT: Amy Sloan or Jaclyn Daly, (301)713-2289.

SUPPLEMENTARY INFORMATION: The subject amendment to Permit No. 1034-1685-01, issued on November 11, 2004 (69 FR 69585), is requested under the authority of the Marine Mammal Protection Act of 1972, as amended (16 U.S.C. 1361 et seq.) and the regulations governing the taking and importing of marine mammals (50 CFR part 216).

Permit No. 1034-1685-01 authorizes the permit holder to surgically implant dual satellite-linked life history transmitters; attach external satellite tags; collect blood, blubber, and fecal samples; and conduct bioelectrical impedance analysis, deuterium dilution determinations, and blubber ultrasound measurements on California sea lions (Zalophus californianus) at The Marine Mammal Center. The permit also authorizes anesthesia and adrenocorticotropic hormone (ACTH) injections to measure adrenal stress levels in up to 6 California sea lions. Stress levels are measured through blood and fecal analysis.

The permit holder requests authorization to increase the number of California sea lions that receive ACTH injections to 12 animals, and inject 6 animals with a sterile saline solution as a control group. The permit holder also requests the addition of a co-investigator to the study.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 13, 2007.
P. Michael Payne,
Chief, Permits, Conservation and Education Division, Office of Protected Resources, National Marine Fisheries Service.

[FR Doc. E7-11956 Filed 6-19-07; 8:45 am]

BILLING CODE 3510-22-S